DEPARTMENT OF VETERANS AFFAIRS

38 CFR Part 36

RIN 2900-AP95

Veterans Benefits Administration; Loan Guaranty: Technical Corrections

AGENCY: Department of Veterans Affairs.

ACTION: Final rule; correcting amendment.

SUMMARY: On June 15, 2010, VA published a document in the Federal Register eliminating redundant provisions from its loan guaranty regulations following the implementation of a new electronic reporting system and redesignating the section numbers of these regulations. At that time, VA did not update cross-reference citations to conform to the redesignated sections. A subsequent notice updated some, but not all, cross-reference citations. VA is now updating the remaining non-substantive, cross-reference citations for clarity and accuracy.

DATES: This correction is effective on February 21, 2017.

FOR FURTHER INFORMATION CONTACT: Jeffrey F. London, Director, Loan Guaranty Service (26), Veterans Benefits Administration, Department of Veterans Affairs, 810 Vermont Avenue NW., Washington, DC 20420, (202) 632-8862. (This is not a toll-free number.)

SUPPLEMENTARY INFORMATION: On June 15, 2010, at 75 FR 33704, VA amended what had been the 36.4800 series of 38 CFR part 36 to eliminate redundant and obsolete regulations, found from 38 CFR 36.4800 through 36.4893, and redesignated those sections as CFR 36.4300 through 36.4393.

On October 22, 2010, at 75 FR 65238, VA amended the cross-references in the 36.4300 series to reflect the June 15, 2010, amendments. At that time, VA inadvertently failed to update a number of cross-references. Additionally, VA attempted to amend 38 CFR 36.4309(c)(1)(vii) to replace a reference to 36.4826 with a reference to 36.4326. However, VA erroneously cited paragraph (c)(1)(vi) as containing the reference to 36.4826. Consequently, the Electronic Code of Federal Regulations, published by the Government Printing Office, could not implement the change, noting an “inaccurate amendatory instruction” at the bottom of 38 CFR 36.4309.

With this notice, VA is amending §§ 36.4309, 36.4322, 36.4335, and 36.4378, to correct the outdated cross-references to the 36.4800 series regulations.

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on February 15, 2017, for publication.

List of Subjects in 38 CFR Part 36

Condominiums, Housing, Individuals with disabilities, Loan programs—housing and community development, Loan programs—veterans, Manufactured homes, Mortgage insurance, Reporting and recordkeeping requirements, Veterans.

Correction

For the reasons discussed in the preamble, VA is amending 38 CFR part 36 with the following correcting amendments:

PART 36—LOAN GUARANTY

1. The authority citation for part 36 continues to read as follows:

Authority: 38 U.S.C. 501 and as otherwise noted.

§ 36.4309 [Amended]

2. In § 36.4309, amend paragraph (c)(1)(vii) by removing “36.4826” and adding in its place “36.4326”.

§ 36.4322 [Amended]

3. In § 36.4322, amend paragraphs (b)(2) and (3) by removing “38 CFR 36.4848” and adding in its place “38 CFR 36.4348”.

§ 36.4335 [Amended]

4. Amend § 36.4335 by removing “§§ 36.4800 to 36.4880” and adding in its place “§§ 36.4300 to 36.4380”.

5. Revise the section heading for § 36.4378 to read as follows:

§ 36.4378 Debits and credits to insurance account under § 36.4320.

* * * * *

Approved: February 15, 2017.
Jeffrey Martin,
Office Program Manager, Office of Regulation Policy & Management, Office of the Secretary, Department of Veterans Affairs.

[FR Doc. 2017-03329 Filed 2-17-17; 8:45 am]

BILLING CODE 8320-01-P